DEPARTMENT OF TRANSPORTATION

National Highway Traffic Safety Administration

[Docket No. NHTSA-2025-0001]

Denial of Motor Vehicle Defect Petition

AGENCY: National Highway Traffic Safety Administration (NHTSA), Department of Transportation.

ACTION: Denial of petition for a defect investigation.

SUMMARY: This notice sets forth the reasons for the denial of a defect petition, DP23-003, submitted on July 2, 2023, by Aldelberto A. Cordova (the “Petitioner”) to NHTSA's Office of Defects Investigation (ODI). The petition requests that NHTSA (the “Agency”) investigate an alleged defect in the “ISG 48-volt on-board electrical system,” which resulted in a warning light illumination and an inability to start the Petitioner's 2023 Mercedes-Benz GLC300. The Petitioner further requested a recall for 2023 Mercedes-Benz GLC300 vehicles based on this issue. After conducting a technical review of the Petitioner's submissions, reviewing complaints related to MY 2023 Mercedes-Benz GLC300 warning light illumination as well as the inability to start a vehicle, and reviewing information provided by Mercedes-Benz regarding the ISG 48-volt system, NHTSA has concluded that the issues raised by the petition do not warrant a defect investigation at this time. Accordingly, the Agency has denied the petition.

FOR FURTHER INFORMATION CONTACT: Ms. Alexa Ardron, Vehicle Defects Division D, Office of Defects Investigation, NHTSA, 1200 New Jersey Avenue SE, Washington, DC 20590. Phone: (202)-819-4554. Email: Alexa.Ardron@dot.gov.

SUPPLEMENTARY INFORMATION:

Introduction

Interested persons may petition NHTSA requesting that the Agency initiate an investigation to determine whether a motor vehicle or an item of replacement equipment does not comply with an applicable motor vehicle safety standard or contains a defect that relates to motor vehicle safety. 49 U.S.C. 30162(a)(2); 49 CFR 552.1. Upon receipt of a properly filed petition, the Agency conducts a technical review of the petition, material submitted with the petition, and any additional information. 49 U.S.C. 30162(a)(2); 49 CFR 552.6. The technical review may consist solely of a review of information already in the possession of the Agency or it may include the collection of information from the motor vehicle manufacturer and/or other sources. After conducting the technical review and considering appropriate factors, which may include, but are not limited to, the nature of the complaint, allocation of Agency resources, Agency priorities, the likelihood of uncovering sufficient evidence to establish the existence of a defect, and the likelihood of success in any necessary enforcement litigation, the Agency will grant or deny the petition. See 49 U.S.C. 30162(a)(2); 49 CFR 552.8.

Background Information

In a letter dated July 2, 2023, Aldelberto A. Cordova (the “Petitioner”) submitted a petition requesting that NHTSA initiate an investigation into an alleged defect in the ISG 48-volt on-board electrical system, which allegedly resulted in warning light illumination and an inability to start the Petitioner's 2023 Mercedes-Benz GLC300 vehicle. Thus, the scope of ODI's review was directed to those GLC300 vehicles.

NHTSA has based its decision on a review of the material cited by the Petitioner in his petition, information submitted by Mercedes-Benz in response to an Agency request, and other pertinent information in NHTSA's databases.

Summary of the Petition

The Petitioner alleged that Model Year (MY) 2023 Mercedes-Benz GLC300 vehicles equipped with the 48-volt ISG system can experience a failure resulting in the illumination of warning lights and an inability to start a vehicle. The Petitioner enclosed the following information with the petition:

• A description of the check engine light illuminating;

• A description of communications with a dealership about illumination of the check engine light;

• Copies of select Mercedes-Benz Service Campaign Bulletins;

• A listing of Mercedes-Benz vehicles that are covered under a recall for ISG-48V system issues;

• Excerpts from internet consumer chats that reported no-start conditions;

• A service invoice at a Mercedes-Benz dealership;

• Listings of Mercedes-Benz Xentry system communications; and

• Listings of allegedly related NHTSA recalls.

Office of Defects Investigation Analysis

ODI conducted the following actions while evaluating the Petition:

• Examined the Petition and its enclosures;

• Reviewed the Petitioner's vehicle history;

• Sent an Information Request letter to Mercedes-Benz and reviewed Mercedes-Benz's response to that letter; and

• Searched for similar complaint traffic in NHTSA's consumer complaints database.

In its August 24, 2023 response to NHTSA's Information Request letter, Mercedes-Benz stated that:

• The cause of the condition reported by the Petitioner was a software deviation in the Central Powertrain Controller (CPC);

• The CPC is separate from and independent of the 48V mild hybrid ISG system;

• The CPC condition in question may cause intermittent no-start conditions; and

• Mercedes-Benz has an active software campaign to correct the CPC software deviation.

ODI conducted a search of NHTSA's consumer complaint database and did not find support for a related stalling trend in the subject vehicles.

Based on available information, it appears that the defect alleged by the Petitioner may be caused by a software error in the CPC software, which is a system separate and independent from the 48-volt system.

ODI concentrated its evaluation on conditions that could lead to a loss of motive power during a drive cycle, and the CPC condition only takes place during a vehicle's startup. Based on this distinction, coupled with the absence of a loss of motive power while driving in the Petitioner's vehicle, and an absence of other applicable loss of motive power allegations in the subject vehicle population in general, ODI finds no basis on which to open a related safety defect investigation at this time.

Mercedes-Benz has an ongoing service campaign to resolve the CPC software error, which caused the illumination of the engine lights and the no-start condition.

After thoroughly assessing the material submitted by the Petitioner, information in NHTSA's databases, and information submitted by Mercedes-Benz in response to an ODI Information Request regarding the Petitioner's allegations, and in consideration of the action Mercedes-Benz is taking to address the software issue, NHTSA does not find that a formal investigation is warranted at this time. Accordingly, the Agency is denying the petition. As with all potential motor vehicle safety risks, NHTSA will continue to review any new information or incidents as they are submitted to the Agency.

Authority: 49 U.S.C. 30162(d) and 49 CFR part 552; delegations of authority at CFR 1.95(a) and 49 CFR part 501.¹

¹ The authority to determine whether to approve or deny defect petitions under 49 U.S.C. 30162(d) and 49 CFR part 552 has been further delegated to the Associate Administrator for Enforcement.

Eileen Sullivan,
Associate Administrator for Enforcement.

[FR Doc. 2025-00969 Filed 1-15-25; 8:45 am]

BILLING CODE 4910-59-P